U.S.-CHINA ECONOMIC AND SECURITY REVIEW COMMISSION

Notice of Open Public Hearing

AGENCY: U.S.—China Economic and Security Review Commission.

ACTION: Notice of open public hearing—June 14-15, 2007, Washington, DC.

SUMMARY: Notice is hereby given of the following hearing of the U.S.-China Economic and Security Review Commission.

Name: Carolyn Bartholomew, Chairman of the U.S.-China Economic and Security Review Commission.

The Commission is mandated by Congress to investigate, assess, evaluate and report to Congress annually on “the national security implications and impact of the bilateral trade and economic relationship between the United States and the People's Republic of China.” Pursuant to this mandate, the Commission will hold a public hearing in Washington, DC on June 14-15, 2007 on “China's Energy Consumption and Opportunities for U.S.-China Cooperation to Address the Effects of China's Energy Use.”

Background

This event is the fourth in a series of public hearings the Commission will hold during its 2007 report cycle to collect input from leading experts in academic, business, industry, government and the public on the impact of the economic and national security implications of the U.S. bilateral trade and economic relationship with China. The June 14-15 hearing is being conducted to examine the trends of China's energy consumption; the strategic and environmental consequences of China's energy use for the United States, China and the world; and strategies for addressing these effects. The June 14-15 hearing on “China's Energy Consumption and Opportunities for U.S.-Cooperation to Address the Effects of China's Energy Use” will be co-chaired by Vice Chairman Daniel Blumenthal and Commissioners Richard D'Amato, Dennis Shea, and Peter Videnieks.

Information on this hearing, including a detailed hearing agenda and information about panelists, will be made available on the Commission's Web site closer to the hearing date. Detailed information about the Commission, the texts of its annual reports and hearing records, and the products of research it has commissioned can be found on the Commission's Web site at http://www.uscc.gov.

Any interested party may file a written statement by June 14, 2007, by mailing to the contact below.

DATES AND TIMES: Thursday, June 14, 2007, 8:30 a.m. to 4 p.m.; and Friday, June 15, 2007, 9:30 a.m. to 4 p.m. A detailed agenda for the hearing will be posted to the Commission's Web site at http://www.uscc.gov in the near future.

ADDRESSES: The hearings will be held on Capitol Hill in Room 385, Russell Senate Office Building, located at Delaware & Constitution Avenues, NE., Washington, DC 20510. Public seating is limited to approximately 50 people on a first come, first served basis. Advance reservations are not required.

FOR FURTHER INFORMATION CONTACT: Kathy Michels, Associate Director for the U.S.-China Economic and Security Review Commission, 444 North Capitol Street, NW., Suite 602, Washington DC 20001; phone: 202-624-1409, or via e-mail at kmichels@uscc.gov.

Authority: Congress created the U.S.-China Economic and Security Review Commission in 2000 in the National Defense Authorization Act (Public Law 106-398), as amended by Division P of the Consolidated Appropriations Resolution, 2003 (Public Law 108-7), as amended by Public Law 109-108 (November 22, 2005).

Dated: May 17, 2007.
Kathleen J. Michels,
Associate Director, U.S.-China Economic and Security Review Commission.

[FR Doc. E7-9890 Filed 5-22-07; 8:45 am]

BILLING CODE 1137-00-P